NUCLEAR REGULATORY COMMISSION

[NRC-2024-0108]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by July 11, 2024. A request for a hearing or petitions for leave to intervene must be filed by August 12, 2024. The last monthly notice was published on May 14, 2024.

ADDRESSES: You may submit comments by any of the following; however, the NRC encourages electronic comment submission through the Federal rulemaking website.

• Federal rulemaking website: Go to https://www.regulations.gov and search for Docket ID NRC-2024-0108. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001, telephone: 301-415-5411; email: Shirley.Rohrer@nrc.gov.

SUPPLEMENTARY INFORMATION:

I. Obtaining Information and Submitting Comments

A. Obtaining Information

Please refer to Docket ID NRC-2024-0108, facility name, unit number(s), docket number(s), application date, and subject when contacting the NRC about the availability of information for this action. You may obtain publicly available information related to this action by any of the following methods:

• Federal Rulemaking Website: Go to https://www.regulations.gov and search for Docket ID NRC-2024-0108.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0108, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, federally recognized Indian Tribe, or designated agency thereof, may submit a petition to the Commission to participate as a party under 10 CFR 2.309(h) no later than 60 days from the date of publication of this notice. Alternatively, a State, local governmental body, federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC.; Braidwood Station, Units 1 and 2, Will County, IL; Constellation Energy Generation, LLC.; Byron Station, Unit Nos. 1 and 2, Ogle County, IL; Constellation Energy Generation, LLC.; Calvert Cliffs Nuclear Power Plant, Units 1 and 2; Calvert County, MD; Constellation Energy Generation, LLC.; Clinton Power Station, Unit 1; Constellation FitzPatrick, LLC and Constellation Energy Generation, LLC.; James A. FitzPatrick Nuclear Power Plant; Oswego County, NY; Constellation Energy Generation, LLC.; LaSalle County Station, Units 1 and 2, LaSalle County, IL; Constellation Energy Generation, LLC.; Limerick Generating Station, Units 1 and 2; Montgomery County, PA.; Constellation Energy Generation, LLC.; Nine Mile Point Nuclear Station, Units 1 and 2; Oswego County, NY; Constellation Energy Generation, LLC.; Peach Botton Atomic Power Station, Units 2 and 3; York and Lancaster Counties, PA; Constellation Energy Generation, LLC.; R.E. Ginna Nuclear Power Plant; Wayne County, NY
Docket No(s) | 50-456, 50-457, 50-454, 50-455, 50-317, 50-318, 50-461, 50-333, 50-373, 50-374, 50-352, 50-353, 50-220, 50-410, 50-277, 50-278, 50-244.
Application date | April 12, 2024.
ADAMS Accession No | ML24103A204.
Location in Application of NSHC | Pages 2-4 of Attachment 1.
Brief Description of Amendment(s) | The proposed amendments would adopt Technical Specifications Task Force (TSTF) Traveler, TSTF-591-A, Revision 0, “Revise Risk Informed Completion Time (RICT) Program.” TSTF-591-A would revise Technical Specification (TS), Section 5.5 “Programs and Manuals,” “Risk Informed Completion Time Program,” to reference Regulatory Guide 1.200, Revision 3, instead of Revision 2, and adds a new report to TS, Section 5.6, “Reporting Requirements,” that informs the NRC of newly developed methods used to calculate a RICT. Additionally, the licensee is requesting the removal of certain stations' facility operating license condition sections associated with the implementation of the 10 CFR 50.69 and RICT programs.
Proposed Determination | NSHC.
Name of Attorney for Licensee, Mailing Address | Jason Zorn, Associate General Counsel, Constellation Energy Generation, 101 Constitution Ave. NW, Suite 400 East, Washington, DC 20001.
NRC Project Manager, Telephone Number | Scott Wall, 301-415-2855.
Dominion Energy Nuclear Connecticut, Inc.; Millstone Power Station, Unit No. 3; New London County, CT
Docket No(s) | 50-423.
Application date | March 22, 2024.
ADAMS Accession No | ML24086A476.
Location in Application of NSHC | Page 2 of Attachment 1.
Brief Description of Amendment(s) | The proposed amendment would extend the reactor coolant pump (RCP) motor flywheel examination frequency from the currently approved 10-year inspection interval, to an interval not to exceed 20 years, consistent with Industry/Technical Specification Task Force (TSTF) Standard Technical Specification Change Traveler, TSTF-421, “Revision to RCP Flywheel Inspection Program (WCAP-15666).” The availability of this technical specification improvement was announced in the Federal Register on October 22, 2003 (68 FR 60422), as part of the consolidated line-item improvement process. The licensee incorporated the original notice by reference in their license amendment request as it concluded that the proposed no significant hazards consideration determination as published on June 24, 2003 (68 FR 37590) is applicable to Millstone, Unit No. 3.
Proposed Determination | NSHC.
Name of Attorney for Licensee, Mailing Address | W.S. Blair, Senior Counsel, Dominion Energy Services, Inc., 120 Tredegar St., RS-2, Richmond, VA 23219.
NRC Project Manager, Telephone Number | Richard Guzman, 301-415-1030.
Duke Energy Progress, LLC.; Shearon Harris Nuclear Power Plant, Unit 1; Wake and Chatham Counties, NC
Docket No(s) | 50-400.
Application date | March 20, 2024.
ADAMS Accession No | ML24080A449.
Location in Application of NSHC | Page 2 of Enclosure 1.
Brief Description of Amendment(s) | The proposed amendment would extend the completion time from 1 hour to 24 hours for applicable actions of Technical Specification (TS) 3.5.1, “Accumulators.” The change is consistent with NRC-approved Industry/Technical Specification Task Force (TSTF) Standard Technical Specification Change Traveler TSTF-370, “Risk-Informed Evaluation of an Extension to Accumulator Completion Times for Westinghouse Plants” (ML003771348). The availability of this TS improvement was announced in the Federal Register on March 12, 2003 (68 FR 11880), as part of the consolidated line-item improvement process.
Proposed Determination | NSHC.
Name of Attorney for Licensee, Mailing Address | Tracey Mitchell LeRoy, Deputy General Counsel, Duke Energy Corporation, 4720 Piedmont Row Dr., Charlotte, NC 28210.
NRC Project Manager, Telephone Number | Michael Mahoney, 301-415-3867.
Energy Northwest; Columbia Generating Station; Benton County, WA
Docket No(s) | 50-397.
Application date | January 30, 2024, as supplemented by letter dated March 20, 2024.
ADAMS Accession No | ML24030A844, ML24081A193.
Location in Application of NSHC | Pages 44-46 of Enclosure 1.
Brief Description of Amendment(s) | The proposed amendment would revise the Columbia Emergency Plan to reflect the updates contained in NUREG-0654/FEMA-REP-1, Revision 2, “Criteria for Preparation and Evaluation of Radiological Emergency Response Plans and Preparedness in Support of Nuclear Power Plants,” dated December 2019 (ML19347D139).
Proposed Determination | NSHC.
Name of Attorney for Licensee, Mailing Address | Ryan Lukson, Assistant General Counsel, Energy Northwest, MD 1020, P.O. Box 968, Richland, WA 99352.
NRC Project Manager, Telephone Number | Mahesh Chawla, 301-415-8371.
Entergy Operations, Inc.; Arkansas Nuclear One, Unit 2; Pope County, AR
Docket No(s) | 50-368.
Application date | April 4, 2024.
ADAMS Accession No | ML24095A063.
Location in Application of NSHC | Pages 3-4 of the Enclosure.
Brief Description of Amendment(s) | The proposed amendment would correct typographical errors in the Arkansas Nuclear One, Unit 2 Technical Specifications.
Proposed Determination | NSHC.
Name of Attorney for Licensee, Mailing Address | Susan Raimo, Associate General Counsel—Nuclear, 101 Constitution Avenue NW, Washington, DC 20001.
NRC Project Manager, Telephone Number | Thomas Wengert, 301-415-4037.
Indiana Michigan Power Company; Donald C. Cook Nuclear Plant, Units 1 and 2; Berrien County, MI
Docket No(s) | 50-315, 50-316.
Application date | April 3, 2024, as supplemented by letter dated May 16, 2024.
ADAMS Accession No | ML24094A288, ML24137A221.
Location in Application of NSHC | Pages 24-26 of Enclosure 2.
Brief Description of Amendment(s) | The proposed amendments would revise Technical Specification (TS) 3.8.1, “AC [Alternating Current] Sources—Operating,” by adding a footnote for TS 3.8.1, Required Action A.3 that would allow a one-time completion time extension from 72 hours to 288 hours to support the replacement of the 12AB (Train B) loop feed enclosure and associated bus for the Train B reserve feed preferred power source.
Proposed Determination | NSHC.
Name of Attorney for Licensee, Mailing Address | Robert B. Haemer, Senior Nuclear Counsel, Indiana Michigan Power Company, One Cook Place, Bridgman, MI 49106.
NRC Project Manager, Telephone Number | Scott Wall, 301-415-2855.
Southern Nuclear Operating Company, Inc.; Edwin I. Hatch Nuclear Plant, Units 1 and 2; Appling County, GA; Southern Nuclear Operating Company, Inc.; Joseph M. Farley Nuclear Plant, Units 1 and 2; Houston County, AL
Docket No(s) | 50-348, 50-364, 50-321, 50-366.
Application date | May 3, 2024.
ADAMS Accession No | ML24124A133.
Location in Application of NSHC | Pages E-22 and E-23 of the Enclosure.
Brief Description of Amendment(s) | The proposed amendments would revise Technical Specification (TS) 1.1, “Use and Application Definitions,” and add a new “Online Monitoring Program” to TS 5.5, “Programs and Manuals.” The proposed amendments would use an online monitoring (OLM) methodology as the technical basis to switch from time-based surveillance frequency for channel calibrations to a condition-based calibration frequency based on OLM results. The proposed amendments are based on the NRC-approved topical report AMS-TR-0720R2-A, “Online Monitoring Technology to Extend Calibration Intervals of Nuclear Plant Pressure Transmitters.”
Proposed Determination | NSHC.
Name of Attorney for Licensee, Mailing Address | Millicent Ronnlund, Vice President and General Counsel, Southern Nuclear Operating Co., Inc., P.O. Box 1295, Birmingham, AL 35201-1295.
NRC Project Manager, Telephone Number | Jack Minzer Bryant, 301-415-0610.
Tennessee Valley Authority; Browns Ferry Nuclear Plant, Units 1, 2, and 3; Limestone County, AL; Tennessee Valley Authority; Sequoyah Nuclear Plant, Units 1 and 2; Hamilton County, TN; Tennessee Valley Authority; Watts Bar Nuclear Plant, Units 1 and 2; Rhea County, TN
Docket No(s) | 50-259, 50-260, 50-296, 50-327, 50-328, 50-390, 50-391.
Application date | April 1, 2024.
ADAMS Accession No | ML24093A047.
Location in Application of NSHC | Pages E2-4-E2-5 of Enclosure 2.
Brief Description of Amendment(s) | The proposed amendments would revise Browns Ferry Nuclear Plant, Units 1, 2, and 3, and Sequoyah Nuclear Plant, Units 1 and 2, Technical Specification (TS) 5.4.1 and Watts Bar Nuclear Plant, Units 1 and 2, TS 5.7.1 to remove the revision number for Regulatory Guide 1.33 and replace it with a reference to the revision that is specified in the TVA Nuclear Quality Assurance Plan.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Virginia Electric and Power Company; Surry Power Station, Unit Nos. 1 and 2; Surry County, VA
Docket No(s) | 50-280, 50-281.
Application date | March 22, 2024.
ADAMS Accession No | ML24087A208.
Location in Application of NSHC | Pages 10-12 of Attachment 1.
Brief Description of Amendment(s) | The proposed amendments would revise the Surry Power Station, Unit Nos. 1 and 2, Technical Specification (TS), Section 3.8, Containment, to: (1) change the TS 3.8.D heading from Internal Pressure to Containment Pressure, (2) add a minimum containment air partial pressure limit to the Limiting Condition for Operation (LCO) in TS 3.8.D, and (3) add a new TS 3.8.E, Containment Air Temperature, to provide an LCO for containment average air temperature. The proposed change also revises TS 4.1, Operational Safety Review, to incorporate TS Surveillance Requirements for containment air partial pressure and containment average air temperature.
Proposed Determination | NSHC.
Name of Attorney for Licensee, Mailing Address | W.S. Blair, Senior Counsel, Dominion Energy Services, Inc., 120 Tredegar St., RS-2, Richmond, VA 23219.
NRC Project Manager, Telephone Number | John Klos, 301-415-5136.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC.; Clinton Power Station, Unit No. 1; DeWitt County, IL; Constellation Energy Generation, LLC.; Dresden Nuclear Power Station, Units 2 and 3; Grundy County, IL; Constellation Energy Generation, LLC.; LaSalle County Station, Units 1 and 2; LaSalle County, IL; Constellation Energy Generation, LLC.; Quad Cities Nuclear Power Station, Units 1 and 2; Rock Island County, IL; Nine Mile Point Nuclear Station, LLC. and Constellation Energy Generation, LLC.; Nine Mile Point Nuclear Station, Unit 2; Oswego County, NY
Docket No(s) | 50-461, 50-237, 50-249, 50-373, 50-374, 50-410, 50-254, 50-265.
Amendment Date | May 23, 2024.
ADAMS Accession No | ML24079A076.
Amendment No(s) | Clinton 253; Dresden 284 (U2) and 277 (U3); LaSalle 263 (U1 and 248 (U2); NMP 196 (U2); Quad Cities 300 (U1) and 296 (U2).
Brief Description of Amendment(s) | The amendments revised the technical specifications for each facility in accordance with Technical Specifications Task Force (TSTF) Traveler TSTF-264, Revision 0, “3.3.9 and 3.3.10—Delete Flux Monitors Specific Overlap Requirement SRs [Surveillance Requirements].” Specifically, the proposed changes delete SRs which verify the overlap between the source range monitor and the intermediate range monitor, and between the intermediate range monitor and the average power range monitor.
Public Comments Received as to Proposed NSHC (Yes/No) | No.
Dominion Energy Nuclear Connecticut, Inc.; Millstone Power Station, Unit No. 3; New London County, CT
Docket No(s) | 50-423.
Amendment Date | May 21, 2024.
ADAMS Accession No | ML24109A003.
Amendment No(s) | 289.
Brief Description of Amendment(s) | The amendment revised Technical Specification (TS) 6.9.1.6.b to support the transition to Framatome (FRM) GAIA fuel with M5™ cladding at Millstone Power Station, Unit No. 3, and the resulting application of the FRM Small Break and Realistic Large Break Loss-of-Coolant Accident (LOCA) methodologies and the associated use of the GALILEO fuel performance code within the LOCA methods. Specifically, FRM Topical Reports EMF-2328-P-A, “PWR [pressurized water reactor] Small Break LOCA Evaluation Model, S-RELAP5 Based,” EMF-2103-P-A, “Realistic Large Break LOCA Methodology for Pressurized Water Reactors,” and ANP-10349-P-A, “GALILEO Implementation in LOCA Methods,” were added to the list of methodologies for establishing core operating limits. The revision to TS 6.9.1.6.b also deleted one methodology no longer used to define core operating limits at Millstone Power Station, Unit No. 3.
Public Comments Received as to Proposed NSHC (Yes/No) | No.
DTE Electric Company; Fermi, Unit 2; Monroe County, MI
Docket No(s) | 50-341.
Amendment Date | April 30, 2024.
ADAMS Accession No | ML24052A277.
Amendment No(s) | 229.
Brief Description of Amendment(s) | The amendment modified Fermi 2 Technical Specification 3.8.1, “AC [Alternating Current] Sources-Operating,” to revise Surveillance Requirement 3.8.1.12, by adding a requirement to verify the crankcase overpressure automatic trip for each emergency diesel generator is bypassed on an actual or simulated emergency start signal.
Public Comments Received as to Proposed NSHC (Yes/No) | No.
Entergy Louisiana, LLC., and Entergy Operations, Inc.; River Bend Station, Unit 1; West Feliciana Parish, LA
Docket No(s) | 50-458.
Amendment Date | May 16, 2024.
ADAMS Accession No | ML24081A007.
Amendment No(s) | 213.
Brief Description of Amendment(s) | The amendment modified the River Bend Station, Unit 1 technical specification requirements to permit the use of Risk-Informed Completion Times in accordance with Technical Specifications Task Force (TSTF) Traveler TSTF-505, Revision 2, “Provide Risk-Informed Extended Completion Times—RITSTF [Risk-Informed TSTF] Initiative 4b.” The NRC staff issued a final model safety evaluation approving TSTF-505, Revision 2, on November 21, 2018.
Public Comments Received as to Proposed NSHC (Yes/No) | No.
Entergy Louisiana, LLC, and Entergy Operations, Inc.; River Bend Station, Unit 1; West Feliciana Parish, LA
Docket No(s) | 50-458.
Amendment Date | May 16, 2024.
ADAMS Accession No | ML24093A089
Amendment No(s) | 214.
Brief Description of Amendment(s) | The amendment revised the River Bend Renewed Facility Operating License No. NPF-47 to add a new license condition to allow for the implementation of 10 CFR 50.69, “Risk-informed categorization and treatment of structures, systems and components for nuclear power reactors.”
Public Comments Received as to Proposed NSHC (Yes/No) | No.
Florida Power & Light Company, et al.; St. Lucie Plant, Unit Nos. 1 and 2; St. Lucie County, FL
Docket No(s) | 50-335, 50-389.
Amendment Date | March 12, 2024.
ADAMS Accession No | ML24017A209.
Amendment No(s) | 254 (Unit 1) and 209 (Unit 2).
Brief Description of Amendment(s) | The amendments modified the licensing basis by the addition of a license condition to allow for the implementation of the provisions of 10 CFR 50.69, “Risk-informed categorization and treatment of structures, systems and components for nuclear power reactors.”
Public Comments Received as to Proposed NSHC (Yes/No) | No.
NextEra Energy Seabrook, LLC.; Seabrook Station, Unit No. 1; Rockingham County, NH
Docket No(s) | 50-443.
Amendment Date | May 7, 2024.
ADAMS Accession No | ML24046A051.
Amendment No(s) | 174.
Brief Description of Amendment(s) | The amendment revised the applicability of the figures in the technical specifications (TSs) for the reactor coolant system pressure-temperature (P-T) limits. This modified the period of applicability specified in the P-T limits curves of TS Figure 3.4-2, Reactor Coolant System Heatup Limitations—Applicable to 55 effective full-power years (EFPY), and Figure 3.4-3, Reactor Coolant System Cooldown Limitations—applicable to 55 EFPY, and Figure 3.4-4, Maximum Allowable power operated Setpoints for cold overpressure protection system, and conforming changes to the TS Index by updating from 55 EFPY to 52.6 EFPY.
Public Comments Received as to Proposed NSHC (Yes/No) | Yes.
Northern States Power Company—Minnesota; Prairie Island Nuclear Generating Plant, Unit Nos. 1 and 2; Goodhue County, MN
Docket No(s) | 50-282, 50-306.
Amendment Date | May 1, 2024.
ADAMS Accession No | ML24071A116.
Amendment No(s) | 244 (Unit 1) and 232 (Unit 2).
Brief Description of Amendment(s) | The amendments revised Technical Specification (TS) 3.7.8, “Cooling Water (CL) System,” required actions for Condition B from verification of operability of both CL pumps that supply the operable CL header to verification of the operability of a safeguards CL pump supplying the operable CL header. The amendments also remove reference to an expired one-time allowance for the completion time for TS 3.7.8 required action B.1.
Public Comments Received as to Proposed NSHC (Yes/No) | No.
Southern Nuclear Operating Company, Inc.; Vogtle Electric Generating Plant, Unit 3; Burke County, GA
Docket No(s) | 52-025.
Amendment Date | May 11, 2024.
ADAMS Accession No | ML24101A211.
Amendment No(s) | 198.
Brief Description of Amendment(s) | The amendment changed Technical Specification (TS) 5.5.13, “Ventilation Filter Testing Program (VFTP),” to provide an exception to the 24-month testing frequency. The exception deferred the next required performance until prior to startup from the first refueling outage. This exception applies to in-place penetration and system bypass testing of the high efficiency particulate air (HEPA) filter, in place penetration and system bypass testing of the charcoal adsorber, and pressure drop testing across the HEPA filter, the charcoal adsorber, and the post filter, as specified in TSs 5.5.13.a.1, 5.5.13.a.2, and 5.5.13.a.4, respectively.
Public Comments Received as to Proposed NSHC (Yes/No) | Yes.
Tennessee Valley Authority; Watts Bar Nuclear Plant, Unit 1; Rhea County, TN
Docket No(s) | 50-390.
Amendment Date | May 16, 2024.
ADAMS Accession No | ML24100A764.
Amendment No(s) | 166.
Brief Description of Amendment(s) | The amendment revised Watts Bar Nuclear Plant, Unit 1, Technical Specification 3.8.2, “AC [Alternating Current] Sources-Shutdown,” to remove the Note regarding the C-S diesel generator.
Public Comments Received as to Proposed NSHC (Yes/No) | No.

Dated: June 5, 2024.
For the Nuclear Regulatory Commission.
Jamie Pelton,
Deputy Director, Division of Operating Reactor Licensing, Office of Nuclear Reactor Regulation.

[FR Doc. 2024-12704 Filed 6-10-24; 8:45 am]

BILLING CODE 7590-01-P